FEDERAL MARITIME COMMISSION

[Docket No. 00-10]

Universal Logistic Forwarding Co., Ltd.—Possible Violations of Sections 10(a)(1) and 10(b)(1) of the Shipping Act of 1984; Notice of Investigation and Hearing

Notice is given that the Commission, on August 10, 2000, served an Order of Investigation and Hearing on Universal Logistic Forwarding Co., Ltd. (“Universal”), which is a tariffed and bonded non-vessel-operating common carrier (“NVOCC”). It appears that, on at least 22 shipments during the time period May 9 through July 3, 1998, Universal obtained or attempted to obtain ocean transportation at less than the applicable rates through accessing a service contract to which it was not a signatory or affiliate. Further, it appears that, on at least 23 shipments during the same time period, Universal did not charge the rates set forth in its tariff. This proceeding therefore seeks to determine (1) whether Universal violated section 10(a)(1) of the Shipping Act of 1984 (“Shipping Act”), 46 U.S.C. app. 1709(a)(1), by knowingly and willfully, directly or indirectly, by means of false billing, false classification, false weighing, false report of weight, false measurement, or by any other unjust or unfair device or means, obtaining or attempting to obtain ocean transportation for property at less than the rates or charges that would otherwise have been applicable; (2) whether Universal violated section 10(b)(1) of the Shipping Act by charging, demanding, collecting or receiving less or different compensation for the transportation of property than the rates and charges shown in its NVOCC tariff; (3) whether, in the event violations of sections 10(a)(1) or section 10(b)(1) of the Shipping Act are found, civil penalties should be assessed against Universal and, if so, the amount of penalties to be assessed; (4) whether, in the event violations of section 10(b)(1) of the Shipping Act are found, Universal's tariff should be suspended; and (5) whether, in the event violations are found, an appropriate cease and desist order should be issued. The full text of the Order may be viewed on the Commission's home page at www.fmc.gov, or at the Office of the Secretary, Room 1046, 800 N. Capitol Street, NW, Washington, DC. Any person may file a petition for leave to intervene in accordance with 46 CFR 502.72.

Bryant L. VanBrakle,
Secretary.

[FR Doc. 00-20682 Filed 8-14-00; 8:45 am]

BILLING CODE 6730-01-P